DEPARTMENT OF AGRICULTURE

Animal and Plant Health Inspection Service

7 CFR Parts 301 and 319

[Docket No. APHIS-2006-0189]

RIN 0579-AC67

Movement of Hass Avocados From Areas Where Mexican Fruit Fly or Sapote Fruit Fly Exist

AGENCY: Animal and Plant Health Inspection Service, USDA.

ACTION: Proposed rule.

SUMMARY: We are proposing to relieve certain restrictions regarding the movement of Hass variety avocados. Specifically, we are proposing to amend our domestic quarantined regulations to provide for the interstate movement of Hass avocados from Mexican fruit fly and sapote fruit fly quarantined areas in the United States with a certificate if the fruit is safeguarded after harvest in accordance with specific measures. We are also proposing to amend our foreign quarantined regulations to remove trapping and bait spray treatment requirements related to Anastrepha spp. fruit flies for imported Hass avocados from Michoacan, Mexico. These actions are warranted in light of research demonstrating the limited host status of Hass avocados to various species of fruit flies in the genus Anastrepha, including Mexican fruit fly and sapote fruit fly. By amending our domestic and foreign quarantined regulations, we would make our domestic and foreign requirements for movement of Hass avocados consistent with each other and would relieve restrictions for Mexican Hass avocado producers. In addition, this action would provide an alternative means for Hass avocados to be moved interstate if the avocados originate from a Mexican fruit fly or sapote fruit fly quarantined area in the United States.

DATES: We will consider all comments that we receive on or before June 2, 2008.

ADDRESSES: You may submit comments by either of the following methods:

• Federal eRulemaking Portal: Go to http://www.regulations.gov/fdmspublic/component/main?main=DocketDetail&d=APHIS-2006-0189 to submit or view comments and to view supporting and related materials available electronically.

• Postal Mail/Commercial Delivery: Please send two copies of your comment to Docket No. APHIS-2006-0189, Regulatory Analysis and Development, PPD, APHIS, Station 3A-03.8, 4700 River Road Unit 118, Riverdale, MD 20737-1238. Please state that your comment refers to Docket No. APHIS-2006-0189.

Reading Room: You may read any comments that we receive on this docket in our reading room. The reading room is located in room 1141 of the USDA South Building, 14th Street and Independence Avenue, SW., Washington, DC. Normal reading room hours are 8 a.m. to 4:30 p.m., Monday through Friday, except holidays. To be sure someone is there to help you, please call (202) 690-2817 before coming.

Other Information: Additional information about APHIS and its programs is available on the Internet at http://www.aphis.usda.gov.

FOR FURTHER INFORMATION CONTACT: Regarding the interstate movement of Hass avocados from Mexican fruit fly and sapote fruit fly quarantined areas, contact Mr. Wayne D. Burnett, Domestic Coordinator, Fruit Fly Exclusion and Detection, PPQ, APHIS, 4700 River Road Unit 137, Riverdale, MD 20737-1231; (301) 734-6553. Regarding import conditions for Hass avocados from Mexico, contact Mr. David B. Lamb, Import Specialist, Commodity Import Analysis and Operations, PPQ, APHIS, 4700 River Road Unit 133, Riverdale, MD 20737-1231; (301) 734-4312.

SUPPLEMENTARY INFORMATION:

Background

The domestic Mexican fruit fly regulations, contained in 7 CFR 301.64 through 301.64-10, and the domestic sapote fruit fly regulations, contained in 7 CFR 301.99 through 301.99-10 (referred to below as the regulations), were established to prevent the spread of the Mexican fruit fly (Anastrepha ludens) and the sapote fruit fly (Anastrepha serpentina), respectively, into noninfested areas of the United States. The regulations designate soil and many fruits, nuts, vegetables, and berries as regulated articles and impose restrictions on the interstate movement of those regulated articles from regulated areas.

Avocado, Persea americana (including the variety Hass), is listed as a regulated article in the regulations in §§ 301.64-2 and 301.99-2. Because avocados are listed as regulated articles, they may not be moved interstate from a quarantined area unless the movement is authorized by a certificate or a limited permit. In general, avocados may be eligible for a certificate if a bait spray is applied to the production site beginning prior to harvest and continuing through the end of harvest or if a post-harvest irradiation treatment is applied to the fruit. To be eligible for a limited permit, a regulated article must be moved to a specific destination for specialized handling, utilization or processing, or for treatment and meet all other applicable provisions of the regulations.

Under the regulations in “Subpart—Fruits and Vegetables” (7 CFR 319.56 through 319.56-47), the Animal and Plant Health Inspection Service (APHIS) prohibits or restricts the importation of fruits and vegetables into the United States from certain parts of the world to prevent plant pests from being introduced into and spread within the United States. The requirements for importing Hass variety avocados into the United States from Michoacan, Mexico are described in § 319.56-30. Those requirements include pest surveys and pest risk-reducing practices, treatment, packinghouse procedures, inspection, and shipping procedures.

In a final rule published on November 30, 2004, in the Federal Register (69 FR 69749-69722, Docket No. 03-022-5) and made effective on January 31, 2005, we amended the regulations governing the importation of fruits and vegetables to expand the number of States in which fresh Hass avocado fruit grown in approved orchards in approved municipalities in Michoacan, Mexico, may be distributed. Some commenters to the proposed rule stated that the research ¹ used by APHIS in its risk assessment ² supported removing Anastrepha ludens and Anastrepha striata from the list of pests of Hass avocados grown in Mexico that follow the pathway. We stated that while Hass avocados are a “very poor host” of Mexican fruit fly, we planned to work with Mexico, the Agricultural Research Service, and independent researchers in the scientific community to further evaluate the host status issue of Hass avocado and Anastrepha spp. fruit flies and determine which species should be removed from the pest list.

¹ Aluja, M., F. Diaz-Fleischer, and J. Arrendondo, Nonhost Status of Commercial Persea americana ‘Hass’ to Anastrepha ludens, Anastrepha obliqua, Anastrepha serpentina and Anastrepha striata (Diptera: Tephritidae) in Mexico, Journal of Economic Entomology, Volume 97, Issue 2 (April 2004).

² USDA, 2004. Importation of Avocado Fruit (Persea americana Mill. var. Hass) from Mexico. A Risk Assessment. November 2004, USDA, APHIS, PPQ, CPHST, MD.

In August 2006, the California Avocado Commission submitted a request that we relieve restrictions on the movement of avocados under our domestic Mexican fruit fly and sapote fruit fly regulations. In July 2006, the Government of Mexico also requested that APHIS amend the regulations for the movement of Hass avocados from Michoacan, Mexico into the United States. Both requests asked APHIS to consider the Aluja et al. (2004) study regarding the limited host status of Hass avocados to various species of fruit flies in the genus Anastrepha, including Mexican fruit fly and sapote fruit fly. In response to the request from the Government of Mexico, we prepared a risk management document, titled “Removal of Anastrepha Fruit Fly Trapping Requirements from Mexican ‘Hass’ Avocados for Importation into the United States,” which evaluated the risk for the introduction of Anastrepha spp. from Mexican Hass avocados. The conclusions of the risk management document supported the Aluja et al. study, which demonstrated that Hass avocados are not a natural host (i.e., a host under field conditions) of Anastrepha spp., and are only marginally susceptible to attack by Mexican fruit fly 24 hours after being removed from the tree. Copies of the risk management document may be obtained from the person listed under FOR FURTHER INFORMATION CONTACT or viewed on the Regulations.gov Web site (see ADDRESSES above for instructions for accessing Regulations.gov).

Based on the findings of the Aluja et al. research and the risk management document, we are proposing to amend the import regulations to remove trapping requirements for Anastrepha spp. fruit flies for Hass avocados imported from Mexico. The findings of the risk management document also support providing alternatives to treatment for domestic Hass avocado producers. Therefore, we are also proposing to provide for the interstate movement of Hass avocados from Mexican fruit fly and sapote fruit fly domestic quarantined areas under certificate if the fruit is safeguarded after harvest in accordance with specific phytosanitary measures. Those measures would be similar to those that currently apply to fruit harvested under the Mexican avocado import program, which has been in place since 1997 and has a proven record of efficacy. The proposed measures do not include all of the provisions from the Mexican avocado import program (e.g., removal of dead branches, cleaning of avocado fruit, etc.) because some of those measures address risks posed by pests that are not of concern in the United States (e.g., seed and stem weevils). These proposed changes are discussed in more detail in the following paragraphs.

Orchard Sanitation and Safeguarding Requirements

In our domestic Mexican fruit fly and sapote fruit fly regulations, we would add a new section (§§ 301.64-11(a) and 301.99-11(a), respectively) in which we would set forth orchard sanitation measures that would be required for Hass avocados from any Mexican fruit fly or sapote fruit fly quarantined area before a certificate for the interstate movement of Hass avocados could be issued. These provisions would require that fallen fruit not be included in field boxes of fruit to be packed for shipping. Fallen avocado fruit can be overripe or damaged, and such fruit is more likely to be infested by pests.

We would also require that harvested avocados be moved from the orchard to the packinghouse within 3 hours of harvest; if more than 3 hours pass between the time the avocados are harvested and the time they are moved to the packinghouse, the avocados would have to be protected from fruit fly infestation while awaiting transport. When the avocados are moved from the orchard to the packinghouse, they would have to be protected from fruit fly infestations and be accompanied by a field record indicating the location of the orchard where the avocados originated.

Packinghouse Requirements

In proposed §§ 301.64-11(b) and 301.99-11(b), we would set forth packinghouse requirements for Hass avocados packed at packinghouses inside areas quarantined for Mexican fruit fly and sapote fruit fly, respectively. All windows and other openings in the packinghouse would have to be covered by screening with openings of not more than 1.6 mm to prevent the entry of insects. Also, packinghouses would have to have double-door systems at the entrances to the facility, as well as at the entrance to the packing area for avocados intended for interstate movement.

The identity of the avocados would have to be maintained from the field boxes or containers to the shipping boxes. The fruit would have to be packed in field boxes or containers with the grower and packinghouse clearly identified on those boxes. Maintaining the identity of the avocados from the field boxes or containers to the shipping boxes would ensure that any infested fruit could be traced back to the orchard where it was grown.

After being loaded into the boxes, the avocados would have to be placed into a refrigerated truck or refrigerated container for transit through the quarantined area. Prior to leaving the packinghouse, the truck or container would have to be secured with a seal that would be broken when the truck or container is opened. Once sealed, the refrigerated truck or refrigerated container would have to remain unopened until it is outside the quarantined area. Any avocados that had not been loaded into a refrigerated truck or refrigerated container by the end of the workday would have to be kept inside the screened packinghouse.

Importation of Hass Avocados From Mexico

As stated previously in this document, the Government of Mexico requested that APHIS relieve restrictions on the movement of Hass avocados from Mexico into the United States after considering research on the nonhost status of Hass avocados to Anastrepha spp. In light of this evidence, we believe that trapping requirements for Anastrepha spp. fruit flies are no longer warranted. Therefore, we are proposing to amend § 319.56-30 by removing paragraph (c)(2)(ii), which contains trapping and bait spray requirements for Anastrepha spp. fruit flies. We would continue to require Mexican Hass avocados to undergo the post-harvest safeguarding and other requirements in § 319.56-30 to be eligible for importation into the United States.

Executive Order 12866 and Regulatory Flexibility Act

This proposed rule has been reviewed under Executive Order 12866. The rule has been determined to be not significant for the purposes of Executive Order 12866 and, therefore, has not been reviewed by the Office of Management and Budget.

We are proposing to relieve certain restrictions regarding the interstate movement of Hass variety avocados from domestic quarantined areas and provide for an alternate means to obtain a certificate for interstate transport. Specifically, we are proposing to provide for the interstate movement of Hass avocados from Mexican fruit fly and sapote fruit fly domestic quarantined areas under certificate if the fruit is safeguarded after harvest in accordance with certain phytosanitary measures. We are also proposing to remove trapping and bait spray treatment requirements related to Anastrepha spp. fruit flies for imported Hass avocados from Mexico. This action is warranted in light of research demonstrating the limited host status of Hass avocados to various species of fruit flies in the genus Anastrepha, including Mexican fruit fly and sapote fruit fly. This action would make our domestic and foreign requirements for movement of Hass avocados consistent and would relieve restrictions for Mexican Hass avocado producers. In addition, this action would provide an alternative means for Hass avocados to be moved interstate if the avocados originate from a Mexican fruit fly or sapote fruit fly domestic quarantined area in the United States.

Effects on Small Entities

In 2006, the United States produced more than 282,000 tons of avocados worth approximately $361 million. California was responsible for producing more than 95 percent of all avocados in the United States. According to the California Avocado Commission, of the nearly 500 varieties of avocado, 7 varieties are grown commercially in California and the Hass variety accounts for approximately 95 percent of the total crop production. Avocado production in Mexico was estimated at more than 1 million tons in 2006. Hass avocado exports to the United States from Mexico in 2006 were estimated to be greater than 130,000 tons.³

³ USDA-FAS. “Mexico Avocado Annual 2005.” Gain Report Number MX5107.

Table 1.—U.S. Avocado Production, 2006
State | Bearing acres | Tons | Production value ($1,000)
California | 62,000 | 270,000 | $ 345,600
Florida | 5,300 | 12,000 | 15,360
Hawaii | 300 | 400 | 512
U.S. Total | 67,600 | 282,400 | 361,472
Source: USDA—National Agricultural Statistics Service (NASS), Noncitrus Fruits and Nuts 2006.

According to the California Avocado Commission, California avocado producers averaged approximately 9,700 pounds of avocados per bearing acre, worth approximately $0.57 per pound in 2006, and yielding a gross return per bearing acre of approximately $5,500. The cash costs of avocado production depend upon the age of the orchard and the yield per acre.⁴ A study that investigated the production costs and profitability of avocado production in California's Ventura and Santa Barbara Counties found that cash costs are equivalent to approximately 42 percent of gross revenue.⁵ In table 2, we use this percentage to evaluate the savings to producers that may be realized because of the proposed changes. Holding all else constant, cash costs of production in 2006 were approximately $2,300 per acre, and net returns over cash costs were approximately $3,200 per acre.

⁴ Cash costs include herbicide/pesticide/rodenticide, treatment, fertilizer, water, labor, fuel, etc. and exclude such overhead items as land rent, equipment, buildings, tools, irrigation systems, sprinklers, and amortized establishment expenses.

⁵ Takele, et al., “Avocado Sample Establishment and Production Costs and Profitability Analysis for Ventura and Santa Barbara Counties, Based on 2001 Data Collected in Ventura and Santa Barbara Counties, California,” UCCE Southern California.

The seasonal cost of treating avocado orchards infested with Mexican fruit fly or sapote fruit fly ranges from $5 per acre for the ground application of malathion to $230 per acre for the aerial application of malathion. The seasonal cost of treating organic avocado orchards infested with fruit flies ranges from $96 per acre for the ground application of Naturalyte,⁶ to $300 per acre for the aerial application of Naturalyte. The costs of treatment for fruit flies in this example could result in a decrease in net returns over cash costs ranging from less than 1 percent to more than 9 percent, as indicated in table 2. Both U.S. and Mexican avocado producers would benefit by eliminating these costs of treating fruit fly infested avocado groves without risking the spread of the fruit flies.

⁶ Spinosad is the first active ingredient in Naturalyte, a class of insect control products approved for organic products.

Table 2.—Example of Effects of Fruit Fly Treatment Costs on Avocado Producers' Net Returns, 2006
Impact of fruit fly treatment costs on net returns per acre | Cost per acre | Cash costs ¹ (including treatment cost) per acre | Decrease in net returns ² over cash costs (percent)
Ground treatment of Malathion | $5 | $2,315 | 0.16
Aerial treatment of Malathion | 230 | 2,540 | 7.2
Ground treatment of Naturalyte | 96 | 2,406 | 3
Aerial treatment of Naturalyte | 300 | 2,610 | 9.4
¹ Cash costs without treatment are $2,310 per acre.
² Net returns are $3,190 per acre (Gross returns minus cash costs, $5,500−2,310 = $3,190).

In 2002, approximately 8,000 acres of avocados were treated in San Diego County, CA, due to a Mexican fruit fly infestation. The costs of applying Malathion or Naturalyte were estimated to be greater than $1 million.

Under the Small Business Administration's criteria, the domestic Hass avocado producers potentially affected by this action are considered small entities if they have annual receipts of not more than $750,000.⁷ According to the 2002 Census of Agriculture, 98 percent of avocado farms had less than 100 acres under production, resulting in annual receipts of not more than $750,000.⁸

⁷ NAICS code 111339, Other Non-citrus Fruit Farming.

⁸ California Avocado Commission. Gross value per avocado acre: $4,314, calendar year 2002.

The proposed changes would harmonize the domestic and foreign requirements for movement of Hass avocados from areas where Mexican fruit fly or sapote fruit fly are present. In Mexican fruit fly or sapote fruit fly domestic quarantined areas, the proposed changes would benefit the Hass avocado producers within the United States by eliminating the cost of bait spray treatment.

The average domestic avocado producer would avoid the 0.16 to 9.4 percent decrease in net returns over cash costs indicated in table 2. However, the savings would be realized only when an area is under quarantine for Mexican fruit fly or sapote fruit fly since bait sprays are required only in quarantined areas.

Under these circumstances, the Administrator of the Animal and Plant Health Inspection Service has determined that this action would not have a significant economic impact on a substantial number of small entities.

Executive Order 12372

This program/activity is listed in the Catalog of Federal Domestic Assistance under No. 10.025 and is subject to Executive Order 12372, which requires intergovernmental consultation with State and local officials. (See 7 CFR part 3015, subpart V.)

Executive Order 12988

This proposed rule has been reviewed under Executive Order 12988, Civil Justice Reform. If this proposed rule is adopted: (1) All State and local laws and regulations that are inconsistent with this rule will be preempted; (2) no retroactive effect will be given to this rule; and (3) administrative proceedings will not be required before parties may file suit in court challenging this rule.

National Environmental Policy Act

To provide the public with documentation of APHIS' review and analysis of any potential environmental impacts associated with the movement of Hass avocados from areas where Mexican fruit fly and sapote fruit fly exist, we have prepared an environmental assessment. The environmental assessment was prepared in accordance with: (1) The National Environmental Policy Act of 1969 (NEPA), as amended (42 U.S.C. 4321 et seq.), (2) regulations of the Council on Environmental Quality for implementing the procedural provisions of NEPA (40 CFR parts 1500-1508), (3) USDA regulations implementing NEPA (7 CFR part 1b), and (4) APHIS' NEPA Implementing Procedures (7 CFR part 372).

The environmental assessment may be viewed on the Regulations.gov Web site or in our reading room. (Instructions for accessing Regulations.gov and information on the location and hours of the reading room are provided under the heading ADDRESSES at the beginning of this proposed rule.) In addition, copies may be obtained by calling or writing to the individual listed under FOR FURTHER INFORMATION CONTACT.

Paperwork Reduction Act

In accordance with section 3507(d) of the Paperwork Reduction Act of 1995 (44 U.S.C. 3501 et seq.), the information collection or recordkeeping requirements included in this proposed rule have been submitted for approval to the Office of Management and Budget (OMB). Please send written comments to the Office of Information and Regulatory Affairs, OMB, Attention: Desk Officer for APHIS, Washington, DC 20503. Please state that your comments refer to Docket No. APHIS-2006-0189. Please send a copy of your comments to: (1) Docket No. APHIS-2006-0189, Regulatory Analysis and Development, PPD, APHIS, Station 3A-03.8, 4700 River Road, Unit 118, Riverdale, MD 20737-1238, and (2) Clearance Officer, OCIO, USDA, room 404-W, 14th Street and Independence Avenue, SW., Washington, DC 20250. A comment to OMB is best assured of having its full effect if OMB receives it within 30 days of publication of this proposed rule.

We are proposing to amend our domestic quarantined regulations to provide for the interstate movement of Hass avocados from Mexican fruit fly and sapote fruit fly domestic quarantined areas with a certificate if the fruit is safeguarded after harvest in accordance with specific measures. The proposed measures would necessitate the use of certain information collection activities, including the submission of certificates and field records as well as identifying orchards and packinghouses on field boxes and containers.

We are soliciting comments from the public (as well as affected agencies) concerning our proposed information collection and recordkeeping requirements. These comments will help us:

(1) Evaluate whether the proposed information collection is necessary for the proper performance of our agency's functions, including whether the information will have practical utility;

(2) Evaluate the accuracy of our estimate of the burden of the proposed information collection, including the validity of the methodology and assumptions used;

(3) Enhance the quality, utility, and clarity of the information to be collected; and

(4) Minimize the burden of the information collection on those who are to respond (such as through the use of appropriate automated, electronic, mechanical, or other technological collection techniques or other forms of information technology; e.g., permitting electronic submission of responses).

Estimate of burden: Public reporting burden for this collection of information is estimated to average 0.0416 hours per response.

Respondents: U.S. Hass avocado producers.

Estimated annual number of respondents: 46.

Estimated annual number of responses per respondent: 210.7826.

Estimated annual number of responses: 9,696.

Estimated total annual burden on respondents: 403 hours. (Due to averaging, the total annual burden hours may not equal the product of the annual number of responses multiplied by the reporting burden per response.)

Copies of this information collection can be obtained from Mrs. Celeste Sickles, APHIS, (Information Collection Coordinator, at (301) 734-7477.

E-Government Act Compliance

The Animal and Plant Health Inspection Service is committed to compliance with the E-Government Act to promote the use of the Internet and other information technologies, to provide increased opportunities for citizen access to Government information and services, and for other purposes. For information pertinent to E-Government Act compliance related to this proposed rule, please contact Mrs. Celeste Sickles, APHIS' Information Collection Coordinator, at (301) 734-7477.

List of Subjects

7 CFR Part 301

Agricultural commodities, Plant diseases and pests, Quarantine, Reporting and recordkeeping requirements, Transportation.

7 CFR Part 319

Coffee, Cotton, Fruits, Imports, Logs, Nursery stock, Plant diseases and pests, Quarantine, Reporting and recordkeeping requirements, Rice, Vegetables.

Accordingly, we propose to amend 7 CFR parts 301 and 319 as follows:

PART 301—DOMESTIC QUARANTINE NOTICES

1. The authority citation for part 301 continues to read as follows:

Authority: 7 U.S.C. 7701-7772 and 7781-7786; 7 CFR 2.22, 2.80, and 371.3.

Section 301.75-15 issued under Sec. 204, Title II, Public Law 106-113, 113 Stat. 1501A-293; sections 301.75-15 and 301.75-16 issued under Sec. 203, Title II, Public Law 106-224, 114 Stat. 400 (7 U.S.C. 1421 note).

2. Section 301.64-5 is amended as follows:

a. In paragraph (a)(1)(iii), by removing the word “and” and adding the word “or” in its place.

b. By adding a new paragraph (a)(1)(iv) to read as set forth below.

§ 301.64-5 Issuance and cancellation of certificates and limited permits.

(a) * * *

(1) * * *

(iv) Determines that the regulated articles are Hass variety avocados that have been harvested, safeguarded, and packed in accordance with the conditions in § 301.64-11; and

* * * * *

3. A new § 301.64-11 is added to read as follows:

§ 301.64-11 Conditions for interstate movement of Hass avocados from quarantined areas.

(a) Orchard sanitation and safeguarding requirements. (1) Hass avocado fruit that has fallen from the trees may not be included in field boxes of fruit to be packed for shipping.

(2) Harvested Hass avocados must be placed in field boxes or containers of field boxes that are marked to show the location of the orchard. The avocados must be moved from the orchard to the packinghouse within 3 hours of harvest or they must be protected from fruit fly infestation until moved.

(3) Hass avocados must be protected from fruit fly infestations during their movement from the orchard to the packinghouse and must be accompanied by a field record indicating the location of the orchard where the avocados originated.

(b) Packinghouse requirements. If Hass avocados are packed at a packinghouse inside the quarantined area, the following conditions must also be met:

(1) All openings to the outside of the packinghouse must be covered by screening with openings of not more than 1.6 mm or by some other barrier that prevents insects from entering the packinghouse.

(2) The packinghouse must have double doors at the entrance to the facility and at the interior entrance to the area where the avocados are packed.

(3) The identity of the avocados must be maintained from field boxes or containers to the shipping boxes so the avocados can be traced back to the orchard in which they were grown.

(4) The Hass avocados must be packed in boxes or crates. The boxes or crates must be clearly marked with the identity of the grower and the packinghouse.

(5) The boxes must be placed in a refrigerated truck or refrigerated container and remain in that truck or container while in transit through the quarantined area. Prior to leaving the packinghouse, the truck or container must be secured with a seal that will be broken when the truck or container is opened. Once sealed, the refrigerated truck or refrigerated container must remain unopened until it is outside the quarantined area.

(6) Any avocados that have not been packed or loaded into a refrigerated truck or refrigerated container by the end of the workday must be kept inside the screened packinghouse.

4. Section 301.99-5 is amended as follows:

(a) In paragraph (a)(1)(iii) by removing the word “and” and adding the word “or” in its place.

(b) By adding a new paragraph (a)(1)(iv) to read as set forth below.

§ 301.99-5 Issuance and cancellation of certificates and limited permits.

(a) * * *

(1) * * *

(iv) The regulated articles are Hass variety avocados that have been harvested, safeguarded, and packed in accordance with the conditions in § 301.99-11; and

* * * * *

5. A new § 301.99-11 is added to read as follows:

§ 301.99-11 Conditions for interstate movement of Hass avocados from quarantined areas.

(a) Orchard sanitation and safeguarding requirements. (1) Hass avocado fruit that has fallen from the trees may not be included in field boxes of fruit to be packed for shipping.

(2) Harvested Hass avocados must be placed in field boxes or containers of field boxes that are marked to show the location of the orchard. The avocados must be moved from the orchard to the packinghouse within 3 hours of harvest or they must be protected from fruit fly infestation until moved.

(3) Hass avocados must be protected from fruit fly infestations during their movement from the orchard to the packinghouse and must be accompanied by a field record indicating the location of the orchard where the avocados originated.

(b) Packinghouse requirements. If Hass avocados are packed at a packinghouse inside the quarantined area, the following conditions must also be met:

(1) All openings to the outside of the packinghouse must be covered by screening with openings of not more than 1.6 mm or by some other barrier that prevents insects from entering the packinghouse.

(2) The packinghouse must have double doors at the entrance to the facility and at the interior entrance to the area where the avocados are packed.

(3) The identity of the avocados must be maintained from field boxes or containers to the shipping boxes so the avocados can be traced back to the orchard in which they were grown.

(4) The Hass avocados must be packed in boxes or crates. The boxes or crates must be clearly marked with the identity of the grower and the packinghouse.

(5) The boxes must be placed in a refrigerated truck or refrigerated container and remain in that truck or container while in transit through the quarantined area. Prior to leaving the packinghouse, the truck or container must be secured with a seal that will be broken when the truck or container is opened. Once sealed, the refrigerated truck or refrigerated container must remain unopened until it is outside the quarantined area.

(6) Any avocados that have not been packed or loaded into a refrigerated truck or refrigerated container by the end of the workday must be kept inside the screened packinghouse.

PART 319—FOREIGN QUARANTINE NOTICES

6. The authority citation for part 319 continues to read as follows:

Authority: 7 U.S.C. 450, 7701-7772, and 7781-7786; 21 U.S.C. 136 and 136a; 7 CFR 2.22, 2.80, and 371.3.

§ 319.56-30 [Amended]

7. Section 319.56-30 is amended by removing paragraph (c)(2)(ii) and redesignating paragraphs (c)(2)(iii) through (c)(2)(vi) as paragraphs (c)(2)(ii) through (c)(2)(v), respectively.

Done in Washington, DC, this 27th day of March 2008.
Kevin Shea,
Acting Administrator, Animal and Plant Health Inspection Service.

[FR Doc. E8-6799 Filed 4-1-08; 8:45 am]

BILLING CODE 3410-34-P